DEPARTMENT OF HOMELAND SECURITY

Coast Guard

33 CFR Part 100

[Docket No. USCG-2019-0150]

Special Local Regulation; Kailua Bay, Ironman World Championship, Kailua-Kona, Hawaii

AGENCY: Coast Guard, DHS.

ACTION: Notice of enforcement of regulation.

SUMMARY: The Coast Guard will enforce a special local regulation for the Ironman Ho'ala practice swim and Ironman World Championship Triathlon on October 6 and October 12, 2019, to provide for the safety of life on navigable waterways during this event. Our regulation for marine events within the Fourteenth Coast Guard District identifies the regulated area for this event on certain waters of Kailua Bay, Kailua-Kona, Hawaii. During the enforcement periods, the operator of any vessel in the regulated area must comply with directions from the Patrol Commander or any Official Patrol displaying a Coast Guard ensign.

DATES: The regulations in 33 CFR 100.1402 will be enforced from 3:45 a.m. until 11 a.m. on October 6, 2019 and October 12, 2019.

FOR FURTHER INFORMATION CONTACT: If you have questions on this document, call or email Chief Jason Olney, Waterways Management Division, U.S. Coast Guard Sector Honolulu; telephone (808) 522-8265, email jason.r.olney@uscg.mil.

SUPPLEMENTARY INFORMATION: The Coast Guard will enforce the special local regulation for the Ironman Ho'ala practice swim and Ironman World Championship Triathlon on October 6 and October 12, 2019. The regulated area covers all navigable waters of Kailua Bay within 100 yards adjacent to the 2.4 mile (4,224 yards) swim course, starting at the shoreline northeast of Kailua Pier at 19°38.341′ N, 155°59.782′ W; thence southeast to 19°37.416′ N, 155°59.444′ W; thence southwest to 19°37.397′ N, 155°59.500′ W; thence northwest to 19°38.150′ N, 155°59.760′ W, thence north and back to Kailua Pier at 19°38.398′ N, 155°59.816′ W, and returning along the pier to the originating point on the shoreline at to 19°38.341′ N, 155°59.782′ W. All datum are NAD 83.

Entry into, transiting, or anchoring within the special local regulation is prohibited unless authorized by the Captain of the Port Honolulu or their designated on-scene representative. The Captain of the Port's designated on-scene representative may be contacted via VHF Channel 16.

This document is issued under authority of 33 CFR 100.1402 and 5 U.S.C. 552 (a). In addition to this publication in the Federal Register, the Coast Guard will provide the maritime community with advance notification of the enforcement of this special local regulation via Broadcast Notice to Mariners. The Captain of the Port Honolulu or their on-scene representative may be contacted via VHF Channel 16.

Dated: September 19, 2019.
A.B. Avanni,
Captain, U.S. Coast Guard, Captain of the Port Honolulu.

[FR Doc. 2019-20765 Filed 9-27-19; 8:45 am]

BILLING CODE 9110-04-P